INTERNATIONAL TRADE COMMISSION

[USITC SE-22-039]

Sunshine Act Meetings

Agency Holding the Meeting: United States International Trade Commission.

TIME AND DATE: October 5, 2022 at 11 a.m.

PLACE: Room 101, 500 E Street SW, Washington, DC 20436 Telephone: (202) 205-2000.

STATUS: Open to the public.

MATTERS TO BE CONSIDERED:

1. Agendas for future meetings: none.

2. Minutes.

3. Ratification List.

4. Commission vote on Inv. Nos. 701-TA-557 and 731-TA-1312 (Review)(Stainless Steel Sheet and Strip from China). The Commission is currently scheduled to complete and file its determinations and views of the Commission on October 18, 2022.

5. Outstanding action jackets: none.

CONTACT PERSON FOR MORE INFORMATION: William Bishop, Supervisory Hearings and Information Officer, 202-205-2595.

The Commission is holding the meeting under the Government in the Sunshine Act, 5 U.S.C. 552(b). In accordance with Commission policy, subject matter listed above, not disposed of at the scheduled meeting, may be carried over to the agenda of the following meeting. Earlier notification of meeting was not possible.

By order of the Commission.
Issued: September 27, 2022.
William Bishop,
Supervisory Hearings and Information Officer.

[FR Doc. 2022-21392 Filed 9-28-22; 4:15 pm]

BILLING CODE 7020-02-P